OFFICE OF THE UNITED STATES TRADE REPRESENTATIVE

[Docket Number USTR-2017-0012]

Request for Comments and Notice of Public Hearing Concerning Russia's Implementation of Its WTO Commitments

AGENCY: Office of the United States Trade Representative.

ACTION: Notice and request for comments; correction.

SUMMARY: The Trade Policy Staff Committee (TPSC) published a document in the Federal Register of August 4, 2017, requesting comments and providing notice of a hearing that will assist the Office of the United States Trade Representative (USTR) in the preparation of its annual report to Congress on Russia's implementation of its obligations as a member of the World Trade Organization (WTO). The document contained an incorrect date for the hearing, which the TPSC will convene on October 10, 2017.

FOR FURTHER INFORMATION CONTACT: For procedural questions concerning written comments or participating in the public hearing, contact Yvonne Jamison at (202) 395-3475. Direct all other questions regarding this notice to Betsy Hafner, Deputy Assistant United States Trade Representative for Russia and Eurasia, at (202) 395-9124.

Correction: In the Federal Register of August 4, 2017, in FR Doc. 2017-16389, 82 FR 36521-22, on page 36521, in the second column, correct the Dates caption to read:

DATES: September 22, 2017: Deadline for filing a summary of testimony and requests to appear at the October 10, 2017 public hearing, and for submitting public comments. October 10, 2017: The TPSC will convene a public hearing on Russia's implementation of its obligations as a member of the WTO at 9:30 a.m. in Rooms 1 & 2, 1724 F Street NW., Washington, DC 20508.

Edward Gresser,
Chair, Trade Policy Staff Committee, Office of the United States Trade Representative.

[FR Doc. 2017-18653 Filed 9-1-17; 8:45 am]

BILLING CODE 3290-F7-P